FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 5, 2018.

A. Federal Reserve Bank of Kansas City (Dennis Denney, Assistant Vice President) 1 Memorial Drive, Kansas City, Missouri 64198-0001:

1. Max E. Nichols Trust and Max E. Nichols, Great Bend, Kansas, individually, and as Trustee of such trust; the Max E. Nichols Legacy Trust and James Steven Clinkinbeard, Topeka, Kansas as Trustee of such trust; EPC LLC, a Kansas limited liability company; Joe Lynn Nichols, Paradise Valley, Arizona; and Erin P. Nichols, Lakewood, Colorado, (collectively, the Nichols Family Group); to retain voting shares of American State Bancshares, Inc., Wichita, Kansas and indirectly retain shares of American State Bank and Trust Company, Great Bend, Kansas.

Board of Governors of the Federal Reserve System, September 14, 2018.
Michele T. Fennell,
Assistant Secretary of the Board.

[FR Doc. 2018-20387 Filed 9-18-18; 8:45 am]

BILLING CODE 6210-01-P